DEPARTMENT OF DEFENSE

Department of the Navy

Notice of Availability of Government-Owned Inventions; Available for Licensing

AGENCY: Department of the Navy, DOD.

ACTION: Notice.

SUMMARY: The inventions listed below are assigned to the United States Government as represented by the Secretary of the Navy and are made available for licensing by the Department of the Navy. U.S. Patent Application Serial No. 08/152,471: METHOD AND APPARATUS FOR IDENTIFYING AND TRACKING PROJECT TRENDS //U.S. Patent No. 6,650,297: LASER DRIVEN PLASMA ANTENNA UTILIZING LASER MODIFIED MAXWELLIAN RELAXATION //U.S. Patent Application Serial No. 09/553,510: SPECIAL SOUNDS VIDEO NARROWBAND PROCESSING SOFTWARE //U.S. Patent No. 6,657,594: PLASMA ANTENNA SYSTEM AND METHOD //U.S. Patent No. 6,806,833: CONFINED PLASMA RESONANCE ANTENNA AND PLASMA RESONANCE ANTENNA ARRAY //U.S. Patent No. 6,827,791: APPARATUS AND METHOD FOR REMOVING PAINT FROM A SUBSTRATE //U.S. Patent Application Serial No. 10/037,808: SEPARATED FLOW LIQUID CATHOLYTE ALUMINUM HYDROGEN PEROXIDE SEAWATER SEMI-FUEL CELL //U.S. Patent No. 6,829,198: ELECTROACOUSTIC TRANSDUCER HAVING COMPRESSION SCREW MECHANICAL BIAS //U.S. Patent Application Serial No. 09/874,306: NON-LINEAR AXISYMMETRIC POTENTIAL FLOW BOUNDARY MODEL FOR PARTIALLY CAVITATING HIGH SPEED BODIES //U.S. Patent Application Serial No. 10/839,449: LOW FREQUENCY SONAR COUNTERMEASURE //U.S. Patent Application Serial No. 09/565,237: ADAPTABLE HIGH SPEED UNDERWATER MUNITION (AHSUM) CONTROL CIRCUITRY FOR HIGH SPEED VIDEO CAMERA OPERATION //U.S. Patent Application Serial No. 10/463,907: ANTENNA FOR DEPLOYMENT FROM UNDERWATER LOCATION //U.S. Patent Application Serial No. 10/672,963: ROTATING FEELER GAGE //U.S. Patent No. 6,822,928: ADAPTIVE SONAR SIGNAL PROCESSING METHOD AND SYSTEM //U.S. Patent Application Serial No. 10/637,074: ACOUSTIC PROCESSING FOR ESTIMATING SIZE OF SMALL TARGETS //U.S. Patent No. 6,834,608: AN ASSEMBLY OF UNDERWATER BODIES AND LAUNCHER THEREFOR //U.S. Patent No. 6,809,444: FREE ROTATING INTEGRATED MOTOR PROPULSOR //U.S. Patent Application Serial No. 10/627,103: ASYMMETRIC TOW SYSTEM FOR MULTIPLE LINEAR SEISMIC ARRAYS //U.S. Patent Application Serial No. 10/679,674: LAUNCHER ASSEMBLY WITH ELASTOMERIC EJECTION //U.S. Patent Application Serial No. 10/679,675: PLUNGING TOWED ARRAY ANTENNA //U.S. Patent No. 6,819,630: ITERATIVE DECISION FEEDBACK ADAPTIVE EQUALIZER //U.S. Patent Application Serial No. 10/679,677: SURF ZONE MINE CLEARANCE ASSAULT SYSTEM //U.S. Patent Application Serial No. 10/730,184: UNDERWATER WEAPON SYSTEM HAVING A ROTATABLE GUN //U.S. Patent Application Serial No. 10/679,687: GUN-ARMED COUNTERMEASURE //U.S. Patent Application Serial No. 10/695,497: VORTEX ASSISTED PRESSURE CONTROL AT INLET OF UNDERWATER LAUNCH SYSTEM //U.S. Patent Application Serial No. 10/663,059: GRAVITY-ACTUATED SUBMARINE ANTENNA //U.S. Patent Application Serial No. 10/644,574: LASER-BASED ACOUSTO-OPTIC UPLINK COMMUNICATIONS TECHNIQUE //U.S. Patent No. 6,813,219: DECISION FEEDBACK EQUALIZATION PRE-PROCESSOR WITH TURBOEQUALIZER //U.S. Patent Application Serial No. 10/456,140: ROTARY ELECTROMAGNETIC LAUNCH TUBE //U.S. Patent No. 6,835,108: OSCILLATING APPENDAGE FOR FIN PROPULSION //U.S. Patent Application Serial No. 10/652,078: APPARATUS AND METHOD FOR CALIBRATING VOLTAGE SPIKE WAVEFORMS FOR THREE-PHASE ELECTRICAL DEVICES AND SYSTEMS //U.S. Patent Application Serial No. 10/652,079: APPARATUS AMD METHOD FOR CALIBRATING VOLTAGE SPIKE WAVEFORMS //U.S. Patent No. 6,813,218: BUOYANT DEVICE FOR BI-DIRECTIONAL ACOUSTO-OPTIC SIGNAL TRANSFER ACROSS THE AIR-WATER INTERFACE //U.S. Patent Application Serial No. 10/672,964: A BROADBAND, TOWED LINE ARRAY WITH SPATIAL DISCRIMINATION CAPABILITIES //U.S. Patent Application Serial No. 10/679,678: TOWABLE SUBMARINE MAST SIMULATOR //U.S. Patent Application Serial No. 10/456,245: MULTI-LOBED BUOYANT LAUNCH CAPSULE //U.S. Patent No. 6,822,373: BROADBAND TRIPLE RESONANT TRANSDUCER //U.S. Patent Application Serial No. 10/730,187: HIGH VELOCITY UNDERWATER JET WEAPON //U.S. Patent Application Serial No. 10/429,331: WATERWAY SHIELDING SYSTEM AND METHOD //U.S. Patent Application Serial No. 10/779,554: A METHOD FOR ESTIMATING THE PROPERTIES OF A SOLID MATERIAL SUBJECTED TO COMPRESSIONAL FORCES //U.S. Patent Application Serial No. 10/385,448: PUNCTURE PROOF TIRE EMPLOYING AN ELONGATED BODY TUBE HAVING SHEAR RESISTANT FILM //U.S. Patent Application Serial No. 10/679,684: CHROMATE-FREE METHOD FOR SURFACE ETCHING OF ALUMINUM AND ALUMINUM ALLOYS //U.S. Patent Application Serial No. 10/679,682: CHROMATE-FREE METHOD FOR SURFACE ETCHING OF TITANIUM //U.S. Patent Application Serial No. 10/851,748: COMBINED IN-PLANE SHEAR AND MULTI-AXIAL TENSION OR COMPRESSION TESTING APPARATUS.

FOR FURTHER INFORMATION CONTACT: Dr. Theresa A. Baus, Technology Transfer Manager, Naval Undersea Warfare Center Division, Newport, 1176 Howell St., Newport, RI 02841-1703, telephone 401-832-8728.

(Authority: 35 U.S.C. 207, 37 CFR part 404.)

Dated: February 17, 2005.
I.C. Le Moyne Jr.,
Lieutenant, Judge Advocate General's Corps, U.S. Navy, Alternate Federal Register Liaison Officer.

[FR Doc. 05-3538 Filed 2-23-05; 8:45 am]

BILLING CODE 3810-FF-P